INTERNATIONAL TRADE COMMISSION

[Investigation Nos. 731-TA-1422-1423 (Review)]

Strontium Chromate From Austria and France

Determinations

On the basis of the record ¹ developed in the subject five-year reviews, the United States International Trade Commission (“Commission”) determines, pursuant to the Tariff Act of 1930 (“the Act”), that revocation of the antidumping duty orders on strontium chromate from Austria and France would be likely to lead to continuation or recurrence of material injury to an industry in the United States within a reasonably foreseeable time.

¹ The record is defined in § 207.2(f) of the Commission's Rules of Practice and Procedure (19 CFR 207.2(f)).

Background

The Commission instituted these reviews on October 1, 2024 (89 FR 79947) and determined on January 6, 2025 that it would conduct expedited reviews (90 FR 8141, January 24, 2025).

The Commission made these determinations pursuant to section 751(c) of the Act (19 U.S.C. 1675(c)). It completed and filed its determinations in these reviews on April 4, 2025. The views of the Commission are contained in USITC Publication 5605 (April 2025), entitled Strontium Chromate from Austria and France: Investigation Nos. 731-TA-1422-1423 (Review).

By order of the Commission.
Issued: April 4, 2025.
Lisa Barton,
Secretary to the Commission.

[FR Doc. 2025-06109 Filed 4-9-25; 8:45 am]

BILLING CODE 7020-02-P